DEPARTMENT OF THE INTERIOR

National Park Service

[NPS-WASO-NRNHL-DTS#-33473; PPWOCRADI0, PCU00RP14.R50000]

National Register of Historic Places; Notification of Pending Nominations and Related Actions

AGENCY: National Park Service, Interior.

ACTION: Notice.

SUMMARY: The National Park Service is soliciting electronic comments on the significance of properties nominated before February 26, 2022, for listing or related actions in the National Register of Historic Places.

DATES: Comments should be submitted electronically by March 23, 2022.

ADDRESSES: Comments are encouraged to be submitted electronically to National_Register_Submissions@nps.gov with the subject line “Public Comment on <property or proposed district name, (County) State>.” If you have no access to email you may send them via U.S. Postal Service and all other carriers to the National Register of Historic Places, National Park Service, 1849 C Street NW, MS 7228, Washington, DC 20240.

FOR FURTHER INFORMATION CONTACT: Sherry A. Frear, Chief, National Register of Historic Places/National Historic Landmarks Program, 1849 C Street NW, MS 7228, Washington, DC 20240, sherry_frear@nps.gov, 202-913-3763.

SUPPLEMENTARY INFORMATION: The properties listed in this notice are being considered for listing or related actions in the National Register of Historic Places. Nominations for their consideration were received by the National Park Service before February 26, 2022. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers:

IOWA

Jackson County

Bellevue Commercial Historic District, 100 North Riverview-318 South Riverview Dr., 100 North 2nd-307 South 2nd, 102 Market-203 West Market, 103-15 State Sts., Bellevue, SG100007558

Maquoketa Commercial Historic District, Main St. between Quarry and Maple Sts., including Platt and Pleasant Sts. one block east and west of Main St., Maquoketa, SG100007559

MASSACHUSETTS

Berkshire County

Otis Center Historic District, 11-29 East Otis, 12-41 Monterey, 14-144 North Main, 8-120 South Main, 25 and 37, Witter Rds., Otis, SG100007553

New Boston Village Historic District, 97-101 North Main and 79-110 South Main Sts. (MA 8), 2-4 Tolland (MA 57), 3-22 Sandisfield, (MA 57), and 2 River Rds., 4 Cannon Mountain and 3 & 5 Willow Lns., Sandisfield, SG100007554

MICHIGAN

Barry County

Michigan Central Railroad Middleville Depot, 128 High St., Middleville, SG100007564

MINNESOTA

Hennepin County

Coliseum Building and Hall, 2708 East Lake St., Minneapolis, SG100007557

Calvary Lutheran Church, 3901 Chicago Ave., Minneapolis, SG100007577

PENNSYLVANIA

Berks County

Hawk Mountain Sanctuary District, 1700 Hawk Mountain Rd., Albany, SG100007555

Northampton County

Mary Immaculate Seminary (MIS), 300 Cherryville Rd., Northampton, SG100007566

Schuylkill County

Hawk Mountain Sanctuary District, 1700 Hawk Mountain Rd., East Brunswick, SG100007555

Hawk Mountain Sanctuary District, 1700 Hawk Mountain Rd., West Brunswick, SG100007555

TENNESSEE

Meigs County

Georgetown Road, (Cherokee Trail of Tears MPS (Additional Documentation)), 8100 Block of TN 60, Georgetown vicinity, MP100007556

UTAH

Salt Lake County

Parade of Homes Lakewood Site Historic District, East Lone Peak and South Fairoaks Drs., Holladay, SG100007561

Utah County

Provo Community Congregational Church, 175 North University Ave., Provo, SG100007565

VERMONT

Addison County

Addison Town Hall, (Historic Government Buildings MPS), 4970 VT 22A, Addison, MP100007574

Windham County

Governor Hunt House, 322 Governor Hunt Rd., Vernon, SG100007573

VIRGINIA

Amherst County

Scott Zion Baptist Church, 2602 Galts Mill Rd., Madison Heights, SG100007568

Bedford County

Quarles-Walker House, 1318 Songbird Ave., Bedford vicinity, SG100007569

Botetourt County

Greenfield Kitchen and Quarters, International Pkwy. and US 220, Daleville vicinity, SG100007570

Fauquier County

Upperville Colt and Horse Show Grounds, 8301 John S. Mosby Hwy., Upperville vicinity, SG100007572

Franklin County

Craghead, John, House, 1609 Windlass Rd., Moneta vicinity, SG100007571

WISCONSIN

Fond Du Lac County

Winnebago Cheese Company, 233 West Division St., Fond du Lac, SG100007575

In the interest of preservation, a SHORTENED comment period has been requested for the following resource:

LOUISIANA

Orleans Parish

Dew Drop Inn, 2836 LaSalle St., New Orleans, SG100007552, Comment period: 3 days

Additional documentation has been received for the following resource:

MICHIGAN

Wayne County

Sweet, Ossian H., House (Additional Documentation), 2905 Garland St., Detroit, AD85000696

Nominations submitted by Federal Preservation Officers:

The State Historic Preservation Officer reviewed the following nominations and responded to the Federal Preservation Officer within 45 days of receipt of the nominations and supports listing the properties in the National Register of Historic Places.

ALASKA

Denali Borough

Little Annie Mine and Camp Site, (Kantishna Historic Mining Resources of Denali National Park and Preserve, MPS), South side of Skyline Drive, approx. 1.3 mi. east of jct. with Denali Park Rd., Denali vicinity, MP100007567

Peter Nelson Cabin Site, (Kantishna Historic Mining Resources of Denali National Park and Preserve, MPS), Along the south side of Eureka Creek roughly 2,300 feet northeast from its confluence with Lucky Gulch, Denali vicinity, MP100007576

(Authority: Section 60.13 of 36 CFR part 60)

Dated: March 1, 2022.
Sherry A. Frear,
Chief, National Register of Historic Places/National Historic Landmarks Program.

[FR Doc. 2022-04878 Filed 3-7-22; 8:45 am]

BILLING CODE 4312-52-P